DEPARTMENT OF COMMERCE

International Trade Administration

[A-533-808]

Stainless Steel Wire Rod From India: Extension of Time Limit for the Preliminary Results of the Antidumping Duty Administrative Review

AGENCY: Import Administration, International Trade Administration, Department of Commerce.

SUMMARY: The Department of Commerce is extending the time limit for the preliminary results of the administrative review of the antidumping duty order on stainless steel wire rod from India until December 10, 2004. This extension applies to the administrative review of three producers, Chandan Steel, Ltd., Isibars Steel, Ltd., and The Viraj Group. The period of review is December 1, 2002, through November 30, 2003.

EFFECTIVE DATE: July 15, 2004.

FOR FURTHER INFORMATION CONTACT: Kristin Case or Minoo Hatten, AD/CVD Enforcement 5, Import Administration, International Trade Administration, U.S. Department of Commerce, 14th Street and Constitution Avenue, N.W., Washington, D.C. 20230; telephone: (202) 482-3174 and (202) 482-1690, respectively.

Background

On January 22, 2004, the Department of Commerce (the Department) published a notice of initiation of the antidumping duty administrative review covering two companies, Isibars Steel Ltd. and The Varij Group. See Notice of Initiation of Antidumping and Countervailing Duty Administrative Reviews and Request for Revocation in Part, 69 FR 3117. On February 24, 2004, the Department published a notice of initiation of the antidumping duty administrative review covering another company, Chandan Steel Ltd. (Chandan). See Notice of Initiation of Antidumping and Countervailing Duty Administrative Reviews, 69 FR 8379.¹

¹ The Department did not include Chandan in the initiation notice for December cases because the company requested evaluation as a new shipper. The Department denied this request after publication of the January 22, 2004, initiation notice for December cases. Because Chandan also made a timely request for an administrative review, the Department included Chandan in the 2002 - 2003 administrative review. Accordingly, all deadlines applicable to the companies included in the December intiation notice are applicable to Chandan.

Extension of Time Limit for Preliminary Results

The Tariff Act of 1930, as amended (the Act), at section 751(a)(3)(A), provides that the Department will issue the preliminary results of an administrative review of an antidumping duty order within 245 days after the last day of the anniversary month of the date of publication of the order. The Act provides further that if the Department determines that it is not practicable to complete the review within this time period, the Department may extend the 245-day period to 365 days.

The Department has determined that it is not practicable to complete the preliminary results by the current deadline of September 1, 2004. There are a number of complex factual questions pertaining to the sales practices and manufacturing costs which impact the calculation of the antidumping margins in the administrative review. We require additional time to analyze the questionnaire responses, issue supplemental questionnaires, and conduct verifications. Therefore, in accordance with section 751(a)(3)(A) of the Act, and 19 CFR 351.213(h)(2), the Department is extending the time limit for the preliminary results by 100 days to December 10, 2004.

We are issuing this notice in accordance with section 751(a)(3)(A) of the Act.

Dated: July 8, 2004.
Jeffrey A. May,
Deputy Assistant Secretary for Import Administration, Group 1.

[FR Doc. 04-15982 Filed 7-14-04; 8:45 am]

BILLING CODE 3510-DS-S